Title 3—

The President

Proclamation 9252 of April 8, 2015

National Former Prisoner of War Recognition Day, 2015

By the President of the United States of America

A Proclamation

For more than two centuries, courageous patriots have fought and sacrificed to secure the freedoms that define our Nation's character and shape our way of life. With honor and distinction, they have borne the burdens of defending these values, enduring tremendous hardship so that we might know a freer, safer, more peaceful world. On National Former Prisoner of War Recognition Day, we honor the women and men who traded their liberty—and sometimes their lives—to protect our own, and we acknowledge the profound debt of gratitude we owe these extraordinary members of our Armed Forces.

Thousands of American servicemen and women have experienced unimaginable trials and profound cruelty as prisoners of war. Many suffered mental and physical torture. Often they faced starvation, isolation, and the uncertainty of indefinite captivity. But even in their darkest moments, these heroes displayed courage and determination. They met immense anguish with an indomitable resolve and stood fast for the principles in which they believed. Their sacrifice represents what is best about our people and challenges us to live up to our Nation's highest ideals.

These warriors endured days, months, and sometimes years of imprisonment, missing irreplaceable milestones and simple moments at home. But they were never forgotten; they were remembered every day by loved ones. Families, friends, and communities—sustained by unyielding devotion through periods of painful unknown—never lost hope. And the United States of America remained deeply committed to our profound obligation to never leave our men and women in uniform behind.

As we reflect on the sacrifices that have made progress throughout our world possible, we are reminded of our solemn duty to serve our former prisoners of war, their families, and all our veterans as well as they served us. Today, we recommit to upholding this sacred trust, and we pay tribute to all those who have given of themselves to protect our Union.

NOW, THEREFORE, I, BARACK OBAMA, President of the United States of America, by virtue of the authority vested in me by the Constitution and the laws of the United States, do hereby proclaim April 9, 2015, as National Former Prisoner of War Recognition Day. I call upon all Americans to observe this day of remembrance by honoring all American prisoners of war, our service members, and our veterans. I also call upon Federal, State, and local government officials and organizations to observe this day with appropriate ceremonies and activities.

IN WITNESS WHEREOF, I have hereunto set my hand this eighth day of April, in the year of our Lord two thousand fifteen, and of the Independence of the United States of America the two hundred and thirty-ninth.

[FR Doc. 2015-08606

Filed 4-10-15; 11:15 am]

Billing code 3295-F5